INTERNATIONAL TRADE COMMISSION

[Investigation Nos. 701-TA-459 and 731-TA-1155 (Review)]

Commodity Matchbooks From India; Determinations

On the basis of the record ¹ developed in the subject five-year reviews, the United States International Trade Commission (“Commission”) determines, pursuant to section 751(c) of the Tariff Act of 1930 (19 U.S.C. 1675(c)), that revocation of the countervailing duty order and antidumping duty order on commodity matchbooks from India would be likely to lead to continuation or recurrence of material injury to an industry in the United States within a reasonably foreseeable time.

¹ The record is defined in § 207.2(f) of the Commission's Rules of Practice and Procedure (19 CFR 207.2(f)).

Background

The Commission instituted these reviews on November 3, 2014 (79 FR 65186) and determined on February 6, 2015 that it would conduct expedited reviews (80 FR 9480, February 23, 2015).

The Commission completed and filed its determinations in these reviews on April 6, 2015. The views of the Commission are contained in USITC Publication 4525 (April 2015), entitled Commodity Matchbooks from India: Investigation Nos. 701-TA-459 and 731-TA-1155 (Review).

By order of the Commission.
Issued: April 2, 2015.
Lisa R. Barton,
Secretary to the Commission.

[FR Doc. 2015-08826 Filed 4-16-15; 8:45 am]

BILLING CODE 7020-02-P